DEPARTMENT OF VETERANS AFFAIRS

Voluntary Service National Advisory Committee, Notice of Meeting

The Department of Veterans Affairs (VA) gives notice under the Federal Advisory Committee Act that the annual meeting of the Department of Veterans Affairs Voluntary Service (VAVS) National Advisory Committee (NAC) will be held April 11-13, 2018, at the Tampa Hilton Downtown, 211 North Tampa Street, Tampa Florida. The meeting sessions are open to the public and are scheduled as follows:

Dates: | Time:
April 11, 2018 | 8:00 a.m. to 11:30 a.m.
April 12, 2018 | 8:30 a.m. to 4:30 p.m.
April 13, 2018 | 8:30 a.m. to 3:45 p.m.

The Committee, comprised of 51 national voluntary organizations, advises the Secretary, through the Office of the Under Secretary for Health, on the coordination and promotion of volunteer activities and strategic partnerships within VA facilities, in the community, and on matters related to volunteerism and charitable giving. The purposes of this meeting are: to provide for Committee review of volunteer policies and procedures; to accommodate full and open communications between organization representatives and the Voluntary Service Office and field staff; to provide educational opportunities geared towards improving volunteer programs with special emphasis on methods to recruit, retain, place, motivate, and recognize volunteers; and to provide Committee recommendations. The April 11, session will include a National Executive Committee Meeting, Health and Information Fair, and VAVS Representative and Deputy Representative training session. The April 12, business session will include welcoming remarks from local officials, and remarks by VA officials on new and ongoing VA initiatives and priorities. The recipients of the American Spirit Recruitment Awards, VAVS Award for Excellence, and the NAC male and female Volunteer of the Year awards will be recognized. Educational workshops will be held in the afternoon and will focus on building the Episodic Volunteer Workshop, S.A.V.E Training—Suicide Prevention, Voluntary Service System, new timekeeping system to track and manage volunteer hours, and a writing workshop. On April 13, the morning business session will include subcommittee reports, the Voluntary Service Report, NAC Chair Report, and remarks by VA officials on new and ongoing VA initiatives and priorities. The educational workshops will be repeated in the afternoon. No time will be allocated at this meeting for receiving oral presentations from the public. However, the public may submit written statements for the Committee's review to Ms. Sabrina C. Clark, Designated Federal Officer, Voluntary Service Office (10B2A), Department of Veterans Affairs, 810 Vermont Avenue NW, Washington, DC, 20420, or by email at Sabrina.Clark@va.gov. Any member of the public wishing to attend the meeting or seeking additional information should contact Ms. Clark at (202) 461-7300.

Dated: February 13, 2018.
Jelessa M. Burney,
Federal Advisory Committee Management Officer.

[FR Doc. 2018-03265 Filed 2-15-18; 8:45 am]

BILLING CODE P